DEPARTMENT OF LABOR

Employment and Training Administration

[TA-W-64,034]

Regina Behar Enterprises, Inc., Including On-Site Leased Workers From Alphastaff, Miami Lakes, FL; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility To Apply for Worker Adjustment Assistance and Alternative Trade Adjustment Assistance on October 21, 2008, applicable to workers of Regina Behar Enterprises, Inc., Miami Lakes, Florida. The notice was published in the Federal Register on November 10, 2008 (73 FR 66676).

At the request of the State agency, the Department reviewed the certification for workers of the subject firm. The workers are engaged in the production of men's and women's custom shirts.

New information shows that workers leased from Alphastaff were employed on-site at the Miami Lakes, Florida location of Regina Behar Enterprises, Inc. The Department has determined that these workers were sufficiently under the control of Regina Behar Enterprises, Inc. to be considered leased workers.

Based on these findings, the Department is amending this certification to include workers leased from Alphastaff working on-site at the Miami Lakes, Florida location of the subject firm.

The intent of the Department's certification is to include all workers employed at Regina Behar Enterprises, Inc., Miami Lakes, Florida who were adversely affected by increased imports of men's and women's custom shirts.

The amended notice applicable to TA-W-64,034 is hereby issued as follows:

“All workers of Regina Behar Enterprises, Inc., including on-site leased workers from Alphastaff, Miami Lakes, Florida, who became totally or partially separated from employment on or after September 8, 2007, through October 21, 2010, are eligible to apply for adjustment assistance under Section 223 of the Trade Act of 1974, and are also eligible to apply for alternative trade adjustment assistance under Section 246 of the Trade Act of 1974.”

Signed at Washington, DC, this 19th day of November 2008.
Elliott S. Kushner,
Certifying Officer, Division of Trade Adjustment Assistance.

[FR Doc. E8-28361 Filed 11-28-08; 8:45 am]

BILLING CODE 4510-FN-P